FEDERAL MARITIME COMMISSION

Ocean Transportation Intermediary License Applicant

Notice is hereby given that the following applicant have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicant should not receive a license are requested to contact the Office of Transportation Intermediaries, Federal Maritime Commission, Washington, DC 20573.

Non-Vessel Operating Common Carrier and Ocean Freight Forwarder Transportation Intermediary Applicant:

Nautica Cargo Services Inc. dba Navinsa Line, 7911 N.W. 72 Ave. 219B, Miami, FL 33166, Officer: Christian A. Hernandez, President (Qualifying Individual).

Dated: September 19, 2008.
Karen V. Gregory,
Assistant Secretary.

[FR Doc. E8-22422 Filed 9-23-08; 8:45 am]

BILLING CODE 6730-01-P